OFFICE OF MANAGEMENT AND BUDGET

Audits of States, Local Governments, and Non-Profit Organizations; OMB Circular A-133 Compliance Supplement

AGENCY: Executive Office of the President, Office of Management and Budget.

ACTION: Notice of availability of the 2013 OMB Circular A-133 Compliance Supplement.

SUMMARY: This notice announces the availability of the 2013 OMB Circular A-133 Compliance Supplement (Supplement). The notice also offers interested parties an opportunity to comment on the 2013 Supplement. The 2013 Supplement adds four new programs, which are added to existing clusters. It deletes 23 programs and has also been updated for program changes and technical corrections.

The four added programs are:

• Catalog of Federal Assistance (CFDA) 10.565—Commodity Supplemental Food Program (as part of the newly titled Food Distribution Cluster)

• CFDA 14.889—Choice Neighborhoods Implementation Grants (as part of a new HOPE VI Cluster)

• CFDA 20.525—State of Good Repair Grants (as part of the Federal Transit Cluster)

• CFDA 20.526—Bus and Bus Facilities Formula Grants (as part of the Federal Transit Cluster)

The deleted programs are:

CFDA 14.258—Tax Credit Assistance Program (TCAP) (Recovery Act Funded)

CFDA 14.907—Lead-Based Paint Hazard Control in Privately-Owned Housing (Recovery Act Funded)

CFDA 14.908—Healthy Homes Demonstration Grants (Recovery Act Funded)

CFDA 14.909—Lead Hazard Reduction Demonstration Grant Program (Recovery Act Funded)

CFDA 14.910—Healthy Homes Technical Studies Grants (Recovery Act Funded)

CFDA 84.032—Federal Family Education Loans (FFEL)

CFDA 84.375—Academic Competitiveness Grants (ACG)

CFDA 84.376—National Science and Mathematics Access to Retain Talent (SMART) Grants (SMART Grants)

CFDA 84.390—Rehabilitation Services—Vocational Rehabilitation Grants to States, Recovery Act

CFDA 84.391—Special Education—Grants to States (IDEA, Part B), Recovery Act

CFDA 84.392—Special Education—Preschool Grants (IDEA Preschool), Recovery Act

CFDA 84.393—Special Education—Grants for Infants and Families, Recovery Act

CFDA 84.394—State Fiscal Stabilization Fund (SFSF)—Education State Grants, Recovery Act (Education Stabilization Fund)

CFDA 84.397—State Fiscal Stabilization Fund (SFSF)—Government Services, Recovery Act

CFDA 93.407—ARRA—Scholarships for Disadvantaged Students (ARRA-SDS)

CFDA 93.705—Aging Home-Delivered Nutrition Services for States (Recovery Act)

CFDA 93.707—Aging Congregate Nutrition Services for States (Recovery Act)

CFDA 93.708—ARRA—Head Start

CFDA 93.709—ARRA—Early Head Start

CFDA 93.710—ARRA—Community Services Block Grant

CFDA 93.712—ARRA—Immunization

CFDA 97.114—Emergency Food and Shelter National Board Program (ARRA)

• CFDA 97.109—Disaster Housing Assistance Grant

A list of changes to the 2013 Supplement can be found at Appendix V. Appendix VII provides an audit alert concerning deletion of American Recovery and Reinvestment Act programs from clusters (which accounts for many of the deleted programs). Due to its length, the 2013 Supplement is not included in this Notice. See ADDRESSES for information about how to obtain a copy either on line or through the Government Printing Office.

DATES: The 2013 Supplement supersedes the 2012 Supplement and will apply to audits of fiscal years beginning after June 30, 2012. All comments on the 2013 Supplement must be in writing and received by October 31, 2013. Late comments will be considered to the extent practicable. We received no comments on the 2012 Supplement.

Due to potential delays in OMB's receipt and processing of mail sent through the U.S. Postal Service, we encourage respondents to submit comments electronically to ensure timely receipt. We cannot guarantee that comments mailed will be received before the comment closing date.

Electronic mail comments may be submitted to: Hai_M._Tran@omb.eop.gov. Please include “A-133 Compliance Supplement—2013” in the subject line and the full body of your comments in the text of the electronic message and as an attachment. Please include your name, title, organization, postal address, telephone number, and email address in the text of the message. Comments may also be submitted via facsimile at 202-395-3952.

Comments may be mailed to Gilbert Tran, Office of Federal Financial Management, Office of Management and Budget, 725 17th Street NW., Room 6025, New Executive Office Building, Washington, DC 20503.

Comments may also be sent through http://www.regulations.gov—a Federal E-Government Web site that allows the public to find, review, and submit comments on documents that agencies have published in the Federal Register and that are open for comment. Simply type “A-133 Compliance Supplement—2013” (in quotes) in the Comment or Submission search box, click Go, and follow the instructions for submitting comments. Comments received through the Web site by the date specified above will be included as part of the official record.

ADDRESSES: The 2013 Supplement is available online on the OMB home page at http://www.whitehouse.gov/omb/financial_fin_single_audit.

FOR FURTHER INFORMATION CONTACT: Recipients and auditors should contact their cognizant or oversight agency for audit, or Federal awarding agency, as appropriate under the circumstances. The Federal agency contacts are listed in Appendix III of the Supplement. Subrecipients should contact their pass-through entity. Federal agencies should contact Gilbert Tran, Office of Management and Budget, Office of Federal Financial Management, at (202) 395-3052.

Norman S. Dong,
Deputy Controller.

[FR Doc. 2013-16509 Filed 7-9-13; 8:45 am]

BILLING CODE P